DEPARTMENT OF DEFENSE

Department of the Navy

32 CFR Part 736

RIN 0703-AA60

Disposition of Property

AGENCY: Department of the Navy, DOD.

ACTION: Final Rule; Correction.

SUMMARY: The Department of the Navy published a document in the Federal Register on September 5, 2000, (65 FR 53589) amending regulations on disposition of property. One amendment inadvertently removed the authority of the Department of the Navy to sell property not excess to its needs. This document corrects that error.

DATES: Effective on November 13, 2000.

FOR FURTHER INFORMATION CONTACT: Major Chris Carlson, USMC, Regulations and Legislation, FOIA/PA Branch, Administrative Law Division, Office of the Judge Advocate General (Code 13), 1322 Patterson Ave. SE., Suite 3000, Washington Navy Yard, DC 20374-5066. Phone (703) 604-8219.

SUPPLEMENTARY INFORMATION: The Department of the Navy (DON) published a document in the Federal Register on September 5, 2000, (65 FR 53589) amending Part 736. In FR Doc. 00-22445, published in the Federal Register on September 5, 2000, § 736.5(e) was inadvertently amended. This correction adds back the language on the sale of property that was deleted in the revision to § 736.5(e).

In rule FR doc. 00-22445 published on September 5, 2000, (65 FR 53589) make the following correction. On page 53590, in the third column, at amendment 4(d) correct the paragraph to read:

§ 736.5 Disposition of real and personal property under special statutory authority.

* * * * *

(e) Exchange or sale of property for replacement purposes. Under the authority of section 201(c) of the Federal Property Act (40 U.S.C. 481(c)) and consistent with Department of Defense implementing regulations, DOD 4140.1-R and the Defense Federal Acquisition Regulation Supplement, the Department of the Navy is authorized in the acquisition of new equipment to exchange or sell similar items which are not excess to its needs, and apply the exchange allowance or proceeds of sale in whole or part payment for the items acquired.

Dated: October 31, 2000.
C.G. Carlson,
U.S. Marine Corps, Alternate Federal Register, Liaison Officer.

[FR Doc. 00-28867 Filed 11-9-00; 8:45 am]

BILLING CODE 3810-FF-P